DEPARTMENT OF JUSTICE

28 CFR Part 65

[OJP(BJA)-1334]

RIN 1121-AA60

Bureau of Justice Assistance; Emergency Federal Law Enforcement Assistance

AGENCY: Office of Justice Programs, Bureau of Justice Assistance, Justice.

ACTION: Final rule; correction.

SUMMARY: This rule corrects the address for submission of applications to the Director, Bureau of Justice Assistance, U.S. Department of Justice, for the Emergency Federal Law Enforcement Assistance (EFLEA) Program. This correction reflects a change of address for the Director, Bureau of Justice Assistance, Office of Justice Program, U.S. Department of Justice.

EFFECTIVE DATE: This change will be effective upon publication in the Federal Register.

FOR FURTHER INFORMATION CONTACT: Linda Fallowfield or Victoria O'Brien at 202-307-6235.

SUPPLEMENTARY INFORMATION: The Bureau of Justice Assistance is issuing this final rule to correct the address to which a state or local unit of government may submit applications for the Emergency Federal Law Enforcement Assistance Program. The purpose of this program is to provide assistance to an uncommon situation which is or threatens to escalate to serious or epidemic proportions and state or local resources are not sufficient to protect the lives and property of citizens, or to enforce the criminal law.

Currently, the state must submit the application directly to the Attorney General, U.S. Department of Justice with one copy to the Director, Bureau of Justice Assistance, Office of Justice Programs, U.S. Department of Justice. The Office of Justice Programs has moved to a different location in Washington, DC necessitating this correction to the regulation.

Regulatory Certifications

Executive Order 12866

This regulation has been written and reviewed in accordance with Executive Order 12866, Sec. 1(b), Principles of Regulation. The Office of Justice Programs has determined that this rule is not a “significant regulatory action” under Executive Order 12866, Sec. 3(f), Regulatory Planning and Review, and accordingly this rule has not been reviewed by the Office of Management and Budget.

Executive Order 12612

This regulation will not have substantial direct effects on the States, on the relationship between the national government and the States, or on distribution of power and responsibilities among the various levels of government. Therefore, in accordance with Executive Order 12612, it is determined that this rule does not have sufficient federalism implications to warrant the preparation of a Federalism Assessment.

Regulatory Flexibility Act

The Office of Justice Programs, in accordance with the Regulatory Flexibility Act (5 U.S.C. 605(b)), has reviewed this regulation and by approving it certifies that this regulation will not have a significant economic impact upon a substantial number of small entities for the following reasons: The EFLEA program is administered by the Office of Justice Programs. The economic impact is limited to the Office of Justice Program's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by Sec. 804 of the Small Business Regulatory Enforcement Fairness Act of 1996. This rule will not result in an annual effect on the economy of $100,000,000 or more; a major increase in cost or prices; or significant adverse effects on competition, employment, investment, productivity, innovation, or on the ability of United States-based companies to compete with foreign-based companies in domestic and export markets.

Paperwork Reduction Act

No new collection of information requirements as defined under the Paperwork Reduction Act (44 U.S.C. 3504(h)) are being added by this proposed regulation.

Environmental Impact

OJP has evaluated this rule in accordance with its procedures for ensuring full consideration of the potential environmental impacts of OJP's actions, as required by the National Environmental Policy Act (42 U.S.C. § 4321 et seq.) and related directives. OJP has concluded that the issuance of this rule does not have a significant impact on the quality of the human environment and, therefore, does not require the preparation of an Environmental Impact Statement.

Energy Impact Statement

OJP has evaluated this rule and has determined that it creates no new impact on the energy supply or distribution.

For the reasons set out in the preamble, Title 28, Chapter I, Part 65 of the Code of Federal Regulations is amended as follows:

PART 65—EMERGENCY FEDERAL LAW ENFORCEMENT ASSISTANCE

1. The authority citation for Part 32 continues to read as follows:

Authority: The Comprehensive Crime Control Act of 1984, Title II, Chap. VI, Div. I, Subdiv. B, Emergency Federal Law Enforcement Assistance, Pub. L. 98-473, 98 Stat. 1837, Oct. 12, 1984 (42 U.S.C. 10501 et seq.); 8 U.S.C. 1101 note; Sec. 610, Pub. L. 102-140, 105 Stat. 832.

2. Section 65.40 is revised to read as follows: 65.40 General.

* * * * *

This subpart describes the process and criteria for the Attorney General's review and approval or disapproval of state applications. The original application, on Standard Form 424, signed by the chief executive officer of the state should be submitted directly to the Attorney General, U.S. Department of Justice, Washington, DC 20503. One copy of the application should be sent to the Director, Bureau of Justice Assistance, Office of Justice Programs, U.S. Department of Justice, Washington, DC 20531.

Dated: February 8, 2002.
Harri j Kramer,
Deputy Director, Bureau of Justice Assistance.

[FR Doc. 02-3833 Filed 2-15-02; 8:45 am]

BILLING CODE 4410-18-P